ENVIRONMENTAL PROTECTION AGENCY

[EPA-HQ-OPP-2015-0086; FRL-9937-08]

AAPCO/SFIREG Full Committee; Notice of Public Meeting

AGENCY: Environmental Protection Agency (EPA).

ACTION: Notices.

SUMMARY: The Association of American Pesticide Control Officials (AAPCO)/State FIFRA Issues Research and Evaluation Group (SFIREG), Full Committee will hold a 2-day meeting, beginning on December 7, 2015, and ending December 8, 2015. This notice announces the location and times for the meeting and sets forth topics that may be included in the agenda. This notice also announces the discontinuation of SFIREG meeting announcements via the Federal Register. Future meeting announcements will be made at the following Web site: www2.epa.gov/pesticides.

DATES: The meeting will be held on Monday, December 7, 2015, from 8:00 a.m. to 4:00 p.m. and from 8:00 a.m. to 12:00 p.m. on Tuesday, December 8, 2015.

To request accommodation for a disability you should please contact the person listed in this notice under FOR FURTHER INFORMATON CONTACT. Please contact EPA at least 10 days prior to the meeting, to give EPA as much time as possible to process your request.

ADDRESSES: The meeting will be held at EPA, One Potomac Yard (South Bldg.), First Floor, South Conference Room, 2777 Crystal Dr., Arlington, VA.

FOR FURTHER INFORMATION CONTACT: Yvette S. Hopkins, Field and External Affairs Division, Rm. 7506P, Office of Pesticide Programs, Environmental Protection Agency, 1200 Pennsylvania Ave. NW., Washington, DC 20460-0001; telephone number: (703) 308-1090; fax number: (703) 305-5884; email address: hopkins.yvette@epa.gov or Amy Bamber, SFIREG Executive Secretary, at aapco-sfireg@gmail.com.

SUPPLEMENTARY INFORMATION:

I. General Information

A. Does this action apply to me?

You may be potentially affected by this action if you are interested in pesticide regulation issues affecting States and any discussion between EPA and SFIREG on FIFRA field implementation issues related to human health, environmental exposure to pesticides, and insight into EPA's decision-making process. You are invited and encouraged to attend the meetings and participate as appropriate. Potentially affected entities may include, but are not limited to persons who are or may be required to conduct testing of chemical substances under the Federal Food, Drug and Cosmetics Act (FFDCA), or the Federal Insecticide, Fungicide, and Rodenticide Act (FIFRA) and those who sell, distribute or use pesticides, as well as any non-government organization. If you have any questions regarding the applicability of this action to a particular entity please consult the person in this notice listed under FOR FURTHER INFORMATION CONTACT.

B. How can I get copies of this document and other related information?

The docket for this action, identified by docket identification (ID) number EPA-HQ-OPP-2015-0086, is available at http://www.regulations.gov or at the Office of Pesticide Programs Regulatory Public Docket (OPP Docket) in the Environmental Protection Agency Docket Center (EPA/DC), West William Jefferson Clinton Bldg., Rm. 3334, 1301 Constitution Ave. NW., Washington DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

This section sets forth topics that may be on the agenda of this meeting.

1. Discussion of the Certification and Training (C&T) rule

a. Soil fumigation category and its role in certification and training trends (state vs. federal vs. industry oversight)

b. Potential problems

2. Awarded Worker Protection (WPS) grants

a. Guidance on how SFIREG should interact with these grantees

b. Grants for conducting meeting and establishing a group similar to CTAG for WPS

c. Developing educational materials

3. WPS inspection guidance document

4. Pesticide Safety and Education Program (PSEP) funding update (Goal 1)

5. Joint Working Committee's proposed Managed Pollinator Protection Plans (MP3) effectiveness metrics

6. Drones [unmanned aerial vehicles (UAV)] and pesticides

7. Marijuana and pesticides use

8. Bee kill reporting

9. Laboratory Issues

a. Update on persistent herbicide Solid Phase Extraction (SPE) method

b. Contaminants in formulation samples

10. Adjusting time allocations for pesticide inspections

11. Federal inspector credentials, program-specific training requirements

III. How can I request to participate in this meeting?

This meeting is open for the public to attend. You may attend the meeting without further notification.

Authority: 7 U.S.C. 136 et seq.

Dated: November 17, 2015.
Jacqueline E. Mosby,
Director, Field and External Affairs Division, Office of Pesticide Protection.

[FR Doc. 2015-29803 Filed 11-20-15; 8:45 am]

BILLING CODE 6560-50-P